FEDERAL MARITIME COMMISSION

Notice of Sunshine Act Meeting

AGENCY HOLDING THE MEETING: Federal Maritime Commission.

TIME AND DATE: December 11, 2013; 10:00 a.m.

PLACE: 800 N. Capitol Street NW., First Floor Hearing Room, Washington, DC.

STATUS: A portion of the meeting will be held in open session; the remainder will be held in closed session.

MATTERS TO BE CONSIDERED:

Open Session

1. Briefing on U.S.—China Bilateral Maritime Agreement Annual Consultation

Closed Session

1. Update on Economic and Liner Trade Conditions

2. Staff Recommendation on Show Cause Order Concerning an Ocean Transportation License Revocation

CONTACT PERSON FOR MORE INFORMATION: Karen V. Gregory, Secretary, (202) 523 5725.

Karen V. Gregory,
Secretary.

[FR Doc. 2013-29373 Filed 12-5-13; 11:15 am]

BILLING CODE 6730-01-P